DEPARTMENT OF COMMERCE

International Trade Administration

[A-427-818]

Notice of Rescission of Antidumping Duty Administrative Reviews: Low Enriched Uranium From France

AGENCY: Import Administration, International Trade Administration, Department of Commerce.

EFFECTIVE DATE: June 5, 2009.

FOR FURTHER INFORMATION CONTACT: Myrna Lobo or Justin Neuman, Office of AD/CVD Enforcement VI, Import Administration, International Trade Administration, U.S. Department of Commerce, 14th Street and Constitution Avenue, NW, Washington DC 20230; telephone: (202) 482-2371 or (202) 482-0486, respectively.

SUPPLEMENTARY INFORMATION:

Background

On December 21, 2001, the Department of Commerce (the Department) published the antidumping duty order on low enriched uranium from France. See Notice of Amended Final Determination of Sales at Less Than Fair Value and Antidumping Duty Order: Low Enriched Uranium From France, 67 FR 6680 (February 13, 2002). On February 4, 2009, the Department published in the Federal Register a notice of opportunity to request an administrative review of the antidumping order on low enriched uranium from France for the period of February 1, 2008 through January 31, 2009. See Antidumping or Countervailing Duty Order, Finding, or Suspended Investigation; Opportunity to Request Administrative Review, 74 FR 6013 (February 4, 2009). On February 19, 2009, USEC timely requested that the Department conduct an administrative review of Eurodif for the period of February 1, 2008 through January 31, 2009. USEC was the only party to request this administrative review. On March 24, 2009, the Department published a notice of initiation of the antidumping duty administrative review of low enriched uranium from France for the period February 1, 2008 through January 31, 2009 (the seventh period of review). See Initiation of Antidumping and Countervailing Duty Administrative Reviews and Requests for Revocation in Part, 74 FR 12310 (March 24, 2009). In that notice, the Department also initiated administrative reviews covering the periods February 1, 2005 through January 31, 2006 (the fourth period of review), and February 1, 2007 through January 31, 2008 (the sixth period of review).¹ For the reasons discussed below, we are rescinding the administrative reviews.

¹ The Department had previously deferred the initiation of the reviews for the 05/06 and 07/08 periods. See 71 FR 17077 (April 5, 2006) and 73 FR 16837 (March 31, 2008).

Rescission of Administrative Review

Pursuant to 19 CFR 351.213(d)(1), the Secretary will rescind an administrative review, in whole or in part, if the parties that requested a review withdraw the request within 90 days of the date of publication of the notice of initiation of the requested review. On May 15, 2009, USEC withdrew its request for the seventh administrative review. At the same time, USEC and Eurodif withdrew their requests for administrative review for the fourth and sixth administrative reviews. USEC and Eurodif withdrew their requests before the 90-day deadline, and no other party requested administrative reviews of the antidumping duty order on low enriched uranium from France for the periods discussed. Therefore, in response to the withdrawals, by USEC and Eurodif, of all requests for the three administrative reviews, and pursuant to 19 CFR 351.213(d)(1), the Department rescinds the three administrative reviews of the antidumping duty order on low enriched uranium from France.

Assessment

The Department will instruct U.S. Customs and Border Protection (CBP) to assess antidumping duties on all appropriate entries. For the companies for which this review is rescinded, the antidumping duties shall be assessed at rates equal to the cash deposit of estimated antidumping duties required at the time of entry, or withdrawal from warehouse, for consumption, in accordance with 19 CFR 351.212(c)(1)(i). The Department is currently barred from liquidating entries subject to the antidumping order on low enriched uranium from France by the injunction in place in Eurodif S.A. et al v. United States, Court No. 02-00219. When the Court of International Trade (CIT) issues final judgment and dismisses the case, the injunction will dissolve. The Department intends to issue appropriate assessment instructions to CPB 15 days after notification by the CIT that the case has been dismissed.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protection orders (APO) of their responsibility concerning the disposition of proprietary information disclosed under APO in accordance with 19 CFR 351.305(a)(3). Timely written notification of the return/destruction of APO materials or conversion to judicial protective order is hereby requested. Failure to comply with the regulations and terms of an APO is a sanctionable violation. This notice is issued and published in accordance with 19 CFR 351.213(d)(4).

Dated: May 29, 2009.
John M. Andersen,
Acting Deputy Assistant Secretary for Antidumping and Countervailing Duty Operations.

[FR Doc. E9-13198 Filed 6-4-09; 8:45 am]

BILLING CODE 3510-DS-S